DEPARTMENT OF AGRICULTURE

Submission for OMB Review; Comment Request

February 15, 2022.

The Department of Agriculture has submitted the following information collection requirement(s) to Office of Management and Budget (OMB) for review and clearance under the Paperwork Reduction Act of 1995, Public Law 104-13. Comments are requested regarding: Whether the collection of information is necessary for the proper performance of the functions of the agency, including whether the information will have practical utility; the accuracy of the agency's estimate of burden including the validity of the methodology and assumptions used; ways to enhance the quality, utility and clarity of the information to be collected; ways to minimize the burden of the collection of information on those who are to respond, including through the use of appropriate automated, electronic, mechanical, or other technological collection techniques or other forms of information technology.

Comments regarding this information collection received by March 21, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Rural Utilities Service

Title: Advance of Loan Funds and Budgetary Control and Related Burdens.

OMB Control Number: 0572-0015.

Summary of Collection: The Rural Utilities Service (RUS) is authorized by the Rural Electrification Act (RE Act) of 1936, as amended, “to make loans in several States and territories of the United States for rural electrification and for the purpose of furnishing and improving electric and telephone service in rural areas and to assist electric borrowers to implement demand side management, energy conservation programs, and on-grid and off-grid renewable energy systems.” Borrowers will provide the agency with information that supports the use of the funds as well as identify the type of projects for which they will use the funds.

Need and Use of the Information: RUS electric borrowers will submit RUS form 595 and 219. Form 595, Financial Requirement & Expenditure Statement, to request an advance of loan funds remaining for an existing approved loan and to report on the expenditure of previously advanced loan funds. Form 219, Inventory of Work Orders, serves as a connecting line and provides an audit trail that verifies the evidence supporting the propriety of expenditures for construction of retirement projects that supports the advance of funds. The information collected will ensure that loan funds are expended and advanced for RUS approved budget process and amounts. Failure to collect proper information could result in improper determinations of eligibility or improper use of funds.

Description of Respondents: Not-for-profit institutions; Business or other for-profit.

Number of Respondents: 598.

Frequency of Responses: Reporting: On occasion.

Total Burden Hours: 14,523.

Rural Utility Service

Title: 7 CFR 1773, Policy on Audits of RUS Borrowers.

OMB Control Number: 0572-0095.

Summary of Collection: Under the authority of the Rural Electrification Act of 1936 (ACT), as amended 7 U.S.C. 901 et seq., the Administrator is authorized and empowered to make loans under certain specified circumstances for rural electrification and the furnishing of electric energy to persons in rural areas and for the purpose of furnishing and improving telephone service in rural areas. RUS, in representing the Federal Government as Mortgagee, relies on the information provided by the borrowers in their financial statements to make lending decisions as to borrowers' credit worthiness and to assure that loan funds are approved, advanced and disbursed for proper Act purposes. Borrowers are required to furnish a full and complete report of their financial condition, operations and cash flows, in form and substance satisfactory to RUS.

Need and Use of the Information: RUS will collect information to evaluate borrowers' financial performance, determine whether current loans are at financial risk, and determine the credit worthiness of future losses. If information is not collected, it would delay RUS' analysis of the borrowers' financial strength, thereby adversely impacting current lending decisions.

Description of Respondents: Not-for-profit institutions; Business or other for-profit.

Number of Respondents: 1,300.

Frequency of Responses: Reporting: On occasion.

Total Burden Hours: 14,439.

Rural Utility Service

Title: Substantially Underserved Trust Areas (SUTA), 7 CFR 1700, Subpart D.

OMB Control Number: 0572-0147.

Summary of Collection: The 2008 Farm Bill (Pub. L. 110-246) authorized the Substantially Underserved Trust Area (SUTA) initiative. The SUTA initiative identifies the need and improves the availability of Rural Utility Service (RUS) programs to reach trust areas. The initiative gives the Secretary of Agriculture certain discretionary authorities relating to financial assistance terms and conditions that can enhance the financing possibilities in areas that are underserved by certain RUS electric, water and waste, and telecom and broadband programs.

Need and Use of the Information: RUS provides loan, loan guarantee and grant programs for rural electric, water and waste, and telecommunications and broadband infrastructure. Eligible applicants notify RUS in writing, at the time of application, that it seeks consideration under the requirements of 7 CFR 1700, subpart D. The data covered by this collection are those materials necessary to allow the agency to determine applicant and community eligibility, and an explanation and documentation of the high need for the benefits of the SUTA provisions. Without this information RUS would not be able to make a prudent loan decision.

Description of Respondents: State, Local or Tribal Government.

Number of Respondents: 2.

Frequency of Responses: Reporting: On occasion.

Total Burden Hours: 60

Rural Utility Service

Title: The Rural Alaska Village Grant (RAVG) Program; 7 CFR part 1784.

OMB Control Number: 0572-0150.

Summary of Collection: The Rural Alaska Village Grant (RAVG) Program is authorized under (Section 3061 of the Consolidated Farm and Rural Development Act (CONACT), (7 U.S.C. 1926(d)), as amended. Governing regulations are codified in 7 CFR part 1784. Under the RAVG program, the Secretary may make grants to the State of Alaska for the benefit of rural or Native Villages in Alaska to provide for the development and construction of water and wastewater systems to improve the health and sanitation conditions in those villages. To be eligible to receive a grant under the RAVG program, the project must provide 25 percent in matching funds from the State of Alaska. The matching funds must come from non-Federal sources.

Need and Use of the Information: The Rural Utilities Service (RUS) will collect information using several forms. RUS state and field offices collect the information from applicants, grantees, and consultants. The collected information is used to determine applicant eligibility and project feasibility. RUS also uses the information to ensure that grantees operate on a sound basis and use the grants funds for authorized purposes.

Description of Respondents: Not-for-profit institutions; State, Local or Tribal Government.

Number of Respondents: 36.

Frequency of Responses: Reporting: On occasion.

Total Burden Hours: 523.

Levi S. Harrell,
Departmental Information Collection Clearance Officer.

[FR Doc. 2022-03594 Filed 2-17-22; 8:45 am]

BILLING CODE 3410-15-P